DEPARTMENT OF HEALTH AND HUMAN SERVICES

Centers for Disease Control and Prevention

[60Day-02-10]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

National Assessment of Health Care Services Provided in Homeless Shelters/Soup Kitchens—New—Centers for Disease Control and Prevention (CDC), National Center for Infectious Diseases (NCID). This Proposed study will collect information for determining, on a national basis, what facilities homeless shelters or soup kitchens currently have and what services are currently offered that might be used to integrate hepatitis prevention activities.

There is one phase of data collection anticipated. This would occur in the Spring of 2002, and will consist of surveys of 200 centers of varying types. Telephone follow-up of initial respondents in the event clarification of responses is needed will be conducted. Respondents will be managers or designees of homeless shelters or soup kitchens. The total time involved to the respondent is 60 minutes. There is no cost to respondents.

Respondents | No. of respondents | No. of responses per respondent | Average burden per response (in hrs.) | Total burden (in hrs.)
Homeless Shelters | 100 | 30 | 1 | 3000
Soup Kitchens | 100 | 30 | 1 | 3000
Total |  |  |  | 6000

Dated: November 19, 2001.
Nancy E. Cheal,
Acting Associate Director for Policy, Planning and Evaluation, Centers for Disease Control and Prevention.

[FR Doc. 01-29335 Filed 11-23-01; 8:45 am]

BILLING CODE 4163-18-P